ENVIRONMENTAL PROTECTION AGENCY

40 CFR Part 52

[EPA-R03-OAR-2011-0801; FRL-9616-6]

Approval and Promulgation of Air Quality Implementation Plans; District of Columbia, Maryland, Virginia, and West Virginia; Determinations of Attainment of the 1997 Fine Particle Standard for the Metropolitan Washington, DC-MD-VA and Martinsburg-Hagerstown, WV-MD Nonattainment Areas

AGENCY: Environmental Protection Agency (EPA).

ACTION: Final rule.

SUMMARY: EPA is making determinations that the Metropolitan Washington, District of Columbia-Maryland-Virginia (DC-MD-VA) fine particle (PM2.5) nonattainment area and the Martinsburg-Hagerstown, West Virginia-Maryland (WV-MD) PM2.5 nonattainment area (hereafter referred to as “Areas”) have attained the 1997 annual PM2.5 National Ambient Air Quality Standard (NAAQS) by their applicable attainment date of April 5, 2010. These determinations are based upon complete, quality-assured, and certified ambient air monitoring data for the 2007-2009 monitoring period. EPA is finding these Areas to be in attainment, in accordance with the requirements of the Clean Air Act (CAA).

DATES: Effective Date: This final rule is effective on February 9, 2012.

ADDRESSES: EPA has established a docket for this action under Docket ID Number EPA-R03-OAR-2011-0801. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103.

FOR FURTHER INFORMATION CONTACT: Irene Shandruk, (215) 814-2166, or by email at shandruk.irene@epa.gov.

SUPPLEMENTARY INFORMATION: Throughout this document, whenever “we,” “us,” or “our” is used, we mean EPA.

I. Background

On July 18, 1997 (62 FR 36852), EPA established a health-based PM2.5 NAAQS at 15.0 micrograms per cubic meter (μg/m³) based on a 3-year average of annual mean PM2.5 concentrations (hereafter referred to as “the annual PM2.5 NAAQS” or “the annual standard”). At that time, EPA also established a 24-hour standard of 65 μg/m³ (the “1997 24-hour standard”). See, 40 CFR 50.7. On January 5, 2005 (70 FR 944), EPA published its air quality designations and classifications for the 1997 PM2.5 NAAQS based upon air quality monitoring data from those monitors for calendar years 2001-2003. These designations became effective on April 5, 2005. The Metropolitan Washington, DC-MD-VA and the Martinsburg-Hagerstown, WV-MD nonattainment areas were designated nonattainment for the 1997 PM2.5 NAAQS during this designations process. See, 40 CFR part 81.309 (the District), 40 CFR 81.321 (Maryland), 40 CFR 81.347 (Virginia), and 40 CFR 81.349 (West Virginia). The Metropolitan Washington, DC-MD-VA 1997 annual PM2.5 nonattainment area consists of the District of Columbia (the District), a Northern Virginia portion (Arlington, Fairfax, Loudoun, and Prince William Counties and the cities of Alexandria, Falls Church, Fairfax, Manassas, and Manassas Park), and Charles, Frederick, Montgomery, and Prince George's Counties in Maryland. The Martinsburg-Hagerstown, WV-MD 1997 annual PM2.5 nonattainment area consists of Washington County in Maryland and Berkley County in West Virginia.

EPA previously made clean data determinations related to the 1997 annual PM2.5 NAAQS for each of these Areas pursuant to 40 CFR 51.1004(c). Determinations were made for the Metropolitan Washington Area, DC-MD-VA on January 12, 2009 (74 FR 1146) and for the Martinsburg-Hagerstown, WV-MD Area on November 20, 2009 (74 FR 60199). These clean data determinations remain in effect.

Under CAA section 179(c), EPA is required to make a determination that a nonattainment area has attained by its applicable attainment date, and publish that determination in the Federal Register. The determination of attainment is not equivalent to a redesignation, and the state must still meet the statutory requirements for redesignation in order for the Areas to be redesignated to attainment.

Complete, quality-assured, and certified PM2.5 air quality monitoring data, recorded in the EPA Air Quality System (AQS) database for 2007-2009, show that the Metropolitan Washington, DC-MD-VA and the Martinsburg-Hagerstown, WV-MD nonattainment areas attained the 1997 annual PM2.5 NAAQS by their applicable attainment date.

On November 4, 2011 (76 FR 68378), EPA published a notice of proposed rulemaking (NPR) for the District of Columbia, Maryland, Virginia, and West Virginia. The NPR proposed to determine that the Metropolitan Washington, DC-MD-VA and the Martinsburg-Hagerstown, WV-MD nonattainment areas have attained the 1997 annual PM2.5 NAAQS by the applicable attainment date of April 5, 2010. The proposal is based upon complete, quality-assured, and certified ambient air monitoring data for the 2007-2009 monitoring period and EPA's determinations are in accordance with EPA's PM2.5 Implementation Rule of April 25, 2007 (72 FR 20664). No comments were submitted on the NPR.

II. What is EPA's analysis of the relevant air quality data?

EPA has reviewed the ambient air monitoring data for PM2.5, consistent with the requirements contained in 40 CFR part 50 and recorded in the data in the EPA AQS database for the Metropolitan Washington, DC-MD-VA and the Martinsburg-Hagerstown, WV-MD nonattainment areas for the monitoring period from 2007-2009. On the basis of that review, EPA is determining that the Areas attained the 1997 annual PM2.5 NAAQS by the applicable April 5, 2010 attainment date.

Under EPA regulations at 40 CFR 50.7, the annual primary and secondary PM2.5 standards are met when the annual arithmetic mean concentrations, as determined in accordance with 40 CFR part 50, appendix N, is less than or equal to 15.0 μg/m³, at all relevant monitoring sites. The values calculated in accordance with 40 CFR part 50, appendix N, are referred to as design values, and these values are used to determine if an area is attaining the PM2.5 NAAQS. According to the PM2.5 implementation rule, the attainment date for these Areas is April 5, 2010 and the monitoring data from 2007-2009 is used to determine if the Areas attained by April 5, 2010.

Table 1 shows the PM2.5 design values for each monitor in the Metropolitan Washington, DC-MD-VA and the Martinsburg-Hagerstown, WV-MD nonattainment areas, respectively, for the years 2007-2009. All 2007-2009 design values are below 15.0 μg/m³, and all monitors meet the data completeness requirements. Therefore, the Metropolitan Washington, DC-MD-VA and the Martinsburg-Hagerstown, WV-MD nonattainment areas attained the 1997 annual PM2.5 NAAQS by their attainment date.

Table 1—1997 Annual PM2.5 Design Values for the Metropolitan Washington, DC-MD-VA and Martinsburg-Hagerstown, WV-MD Areas *
State | County | Monitor ID | 2007 Annual mean | 2008 Annual mean | 2009 Annual mean | Certified design value 2007-2009 (μg/m³)
Metropolitan Washington, DC-VA-MD
DC | District of Columbia | 110010041 | 13.6 | 12.0 | 10.5 | 12.0
| District of Columbia | 110010042 | 13.7 | 12.3 | 10.1 | 12.1
| District of Columbia | 110010043 | 13.0 | 11.6 | 10.2 | 11.6
VA | Alexandria | No monitor
| Arlington | 510130020 | 13.8 | 12.0 | 10.1 | 11.9
| Fairfax | 510590030 | 12.5 | 11.1 | 9.8 | 11.1
| Farifax County | 510591005 | 13.3 | 11.2 | 9.5 | 11.3
| Fairfax | 510595001 | 13.5 | 11.8 | 9.7 | 11.7
| Falls Church | No monitor
| Loudon | 511071005 | 12.8 | 11.5 | 9.2 | 11.2
| Manassas | No monitor
| Manassas Park | No monitor
MD | Charles | No monitor
| Frederick | No monitor
| Montgomery | 240313001 | 11.7 | 10.8 | 9.4 | 10.7
| Prince Georges | 240330025 | 14.1 | 12.4 | 10.7 | 12.4
| Prince Georges | 240330030 | 11.8 | 10.9 | 8.7 | 10.5
| Prince Georges | 240338003 | 12.4 | 11.2 | 8.8 | 10.8
Martinsburg-Hagerstown, WV-MD
WV | Berkley | 240430009 | 12.9 | 11.8 | 9.7 | 11.5
MD | Washington | 540030003 | 15.6 | 14.2 | 12.1 | 14.0
* The data presented in Table 1 are available at http://www.epa.gov/air/airtrends/values.html.

III. Final Action

EPA is finalizing the determinations that the Metropolitan Washington, DC-MD-VA and the Martinsburg-Hagerstown, WV-MD nonattainment areas have attained the 1997 annual PM2.5 standard by the applicable attainment date (April 5, 2010). These actions meet the requirement pursuant to section 179(c) of the CAA for EPA to make a determination as to whether the Areas attained the standard by the applicable attainment date of April 5, 2010.

Finalizing these actions does not constitute a redesignation of the Areas to attainment of the 1997 annual PM2.5 NAAQS under section 107(d)(3) of the CAA. Further, finalizing these determinations does not involve approving maintenance plans for the Areas as required under section 175A of the CAA, nor does it find that the Areas have met all other requirements for redesignation. The designation status of the Metropolitan Washington, DC-MD-VA and the Martinsburg-Hagerstown, WV-MD areas remains nonattainment for the 1997 annual PM2.5 NAAQS until such time as EPA determines that the Areas meet the CAA requirements for redesignation to attainment and EPA acts to redesignate the Metropolitan Washington, DC-MD-VA and the Martinsburg-Hagerstown, WV-MD nonattainment areas.

IV. Statutory and Executive Order Reviews

A. General Requirements

This action merely makes attainment determinations based on air quality data and does not impose any additional requirements. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by March 12, 2012. Filing a petition for reconsideration by the Administrator of this final rule does not affect the finality of this action for the purposes of judicial review nor does it extend the time within which a petition for judicial review may be filed, and shall not postpone the effectiveness of such rule or action. This action pertaining to the determinations of attainment for the Metropolitan Washington, DC-MD-VA and the Martinsburg-Hagerstown, WV-MD PM2.5 nonattainment areas may not be challenged later in proceedings to enforce its requirements. (See section 307(b)(2).)

List of Subjects in 40 CFR Part 52

Environmental protection, Air pollution control, Incorporation by reference, Intergovernmental relations, Particulate matter, Reporting and recordkeeping requirements.

Dated: December 27, 2011.
W.C. Early,
Acting Regional Administrator, Region III.

40 CFR part 52 is amended as follows:

PART 52—[AMENDED]

1. The authority citation for part 52 continues to read as follows:

Authority: 42 U.S.C. 7401 et seq.

Subpart J—District of Columbia

2. Section 52.475 is added to read as follows:

§ 52.475 Determinations of attainment.

Based upon EPA's review of the air quality data for the 3-year period 2007 to 2009, EPA determined that the Metropolitan Washington, District of Columbia-Maryland-Virginia (DC-MD-VA) fine particle (PM2.5) nonattainment area attained the 1997 annual PM2.5 National Ambient Air Quality Standard (NAAQS) by the applicable attainment date of April 5, 2010. Therefore, EPA has met the requirement pursuant to CAA section 179(c) to determine, based on the area's air quality as of the attainment date, whether the area attained the standard. EPA also determined that the Metropolitan Washington, DC-MD-VA nonattainment area is not subject to the consequences of failing to attain pursuant to section 179(d).

Subpart V—Maryland

2. Section 52.1082 is added to read as follows:

§ 52.1082 Determinations of attainment.

(a) Based upon EPA's review of the air quality data for the 3-year period 2007 to 2009, EPA determined that the Metropolitan Washington, District of Columbia-Maryland-Virginia (DC-MD-VA) fine particle (PM2.5) nonattainment area attained the 1997 annual PM2.5 National Ambient Air Quality Standard (NAAQS) by the applicable attainment date of April 5, 2010. Therefore, EPA has met the requirement pursuant to CAA section 179(c) to determine, based on the area's air quality as of the attainment date, whether the area attained the standard. EPA also determined that the Metropolitan Washington, DC-MD-VA nonattainment area is not subject to the consequences of failing to attain pursuant to section 179(d).

(b) Based upon EPA's review of the air quality data for the 3-year period 2007 to 2009, EPA determined that the Martinsburg-Hagerstown, West Virginia-Maryland (WV-MD) fine particle (PM2.5) nonattainment area attained the 1997 annual PM2.5 National Ambient Air Quality Standard (NAAQS) by the applicable attainment date of April 5, 2010. Therefore, EPA has met the requirement pursuant to CAA section 179(c) to determine, based on the area's air quality as of the attainment date, whether the area attained the standard. EPA also determined that the Martinsburg-Hagerstown, WV-MD nonattainment area is not subject to the consequences of failing to attain pursuant to section 179(d).

Subpart VV—Virginia

4. Section 52.2430 is added to read as follows:

§ 52.2430 Determinations of attainment.

Based upon EPA's review of the air quality data for the 3-year period 2007 to 2009, EPA determined that the Metropolitan Washington, District of Columbia-Maryland-Virginia (DC-MD-VA) fine particle (PM2.5) nonattainment area attained the 1997 annual PM2.5 National Ambient Air Quality Standard (NAAQS) by the applicable attainment date of April 5, 2010. Therefore, EPA has met the requirement pursuant to CAA section 179(c) to determine, based on the area's air quality as of the attainment date, whether the area attained the standard. EPA also determined that the Metropolitan Washington, DC-MD-VA PM2.5 nonattainment area is not subject to the consequences of failing to attain pursuant to section 179(d).

Subpart XX—West Virginia

5. Section 52.2527 is amended by adding paragraph (e) to read as follows:

§ 52.2527 Determination of attainment.

* * * * *

(e) Based upon EPA's review of the air quality data for the 3-year period 2007 to 2009, EPA determined that the Martinsburg-Hagerstown, West Virginia-Maryland (WV-MD) fine particle (PM2.5) nonattainment area attained the 1997 annual PM2.5 National Ambient Air Quality Standard (NAAQS) by the applicable attainment date of April 5, 2010. Therefore, EPA has met the requirement pursuant to CAA section 179(c) to determine, based on the area's air quality as of the attainment date, whether the area attained the standard. EPA also determined that the Martinsburg-Hagerstown, WV-MD PM2.5 nonattainment area is not subject to the consequences of failing to attain pursuant to section 179(d).

[FR Doc. 2012-141 Filed 1-9-12; 8:45 am]

BILLING CODE 6560-50-P